DEPARTMENT OF TRANSPORTATION

Federal Transit Administration

Fiscal Year 2014-2015 Public Transportation on Indian Reservations Program Project Selections

AGENCY: Federal Transit Administration (FTA), U.S. Department of Transportation (DOT).

ACTION: Tribal Transit Program Announcement of Project Selections.

SUMMARY: The Federal Transit Administration (FTA) announces the selection of projects with Fiscal Year (FY) 2014 and FY 2015 appropriations for the Public Transportation on Indian Reservations Program Tribal Transit Program (TTP), as authorized by Section 5311 (j) of the Moving Ahead for Progress in the 21st Century Act (MAP-21), Public Law 112-14 (July 2012). On December 9, 2014 FTA published a Federal Register Notice (79 FR 236) announcing the availability of Federal funding for the program. MAP-21 authorized approximately $5 million annually for federally recognized Indian Tribes or Alaska Native villages, groups, or communities as identified by the Bureau of Indian Affairs (BIA) in the U.S. Department of the Interior for public transportation. FTA is allocating a total of approximately $10 million to selected projects in this notice since we are including FY 2015 funding described in the December 2014 Notice of Funding Availability (NOFA). The TTP supports many types of projects including: Operating costs to enable tribes to start or continue transit services; capital to enable tribal investment in new or replacement equipment; and funding for tribal transit planning activities for public transportation services on and around Indian reservations. TTP services link tribal citizens to employment, food, healthcare, school, social services, recreation/leisure, and other key community connections. FTA funds may only be used for eligible purposes defined under 49 U.S.C 5311 and described in the FTA Circular 9040.1G and consistent with the specific eligibility and priorities established in the December 2014 NOFA.

FOR FURTHER INFORMATION CONTACT: Successful applicants should contact the appropriate FTA Regional office for information regarding applying for the funds or program-specific information. A list of Regional offices, along with a list of tribal liaisons can be found at www.fta.dot.gov. Unsuccessful applicants may contact Élan Flippin, Office of Program Management at (202) 366-3800, email: Elan.Flippin@dot.gov to arrange a proposal debriefing within 30 days of this announcement. In the event the contact information provided by your tribe in the application has changed, please contact your regional tribal liaison with the current information in order to expedite the grant award process. A TDD is available at 1-800-877-8339 (TDD/FIRS).

SUPPLEMENTARY INFORMATION: Approximately $10 million is available for FY 2014 and FY 2015 under the TTP. A total of 79 applications were received from 64 tribes in 20 states requesting $19.5 million, indicating significant demand for funds for public transportation projects. Project proposals were evaluated based on each applicant's responsiveness to the program evaluation criteria outlined in FTA's December 2014 NOFA. The FTA also took into consideration the current status of previously funded applicants. This included evaluating available prior year discretionary and formula balances; geographic balance and diversity, including regional balance based on tribal population; and support of the Ladders of Opportunity initiative. As a result, FTA is funding a total of 65 projects for 55 tribes in 18 states. The projects selected in Table 1 provide funding for transit planning studies, capital and operating requests for existing, start-up expansion and replacement services. Funds must be used only for the specific purposes identified in Table 1. Allocations may be less than what the applicant requested and were capped at $300,000 to provide funding to all highly recommended and recommended proposals, however, planning projects were capped at $25,000. Recommended projects received the scalable amount provided by the applicant. Operating assistance for existing services was funded at one year. Tribes selected for competitive discretionary funding should work with their FTA regional office to finalize the grant application in FTA's Transit Award Management System (TrAMs) for the projects identified in the attached table to quickly obligate funds. In cases where the allocation amount is less than the proposer's requested amount, tribes should work with the regional office to ensure the funds are obligated for eligible aspects of the projects, and for the specific purpose intended as reflected in Table 1. A discretionary project identification number has been assigned to each project for tracking purposes, and must be used in the TrAMs application. For more information about TrAMs, please visit http://www.fta.dot.gov/16260_15769.html. The post award reporting requirements include submission of the Federal Financial Report (FFR) and Milestone Progress Report in TrAMs, and National Transit Database (NTD) reporting as appropriate (see FTA Circular 9040.1G).

Tribes must continue to report to the NTD to be eligible for formula apportionment funds. To be considered in the FY 2016 formula apportionments, tribes should have submitted their reports to the NTD no later than August 31, 2015; voluntary reporting to the NTD is also encouraged. Additionally, to be considered for the FY 2017 formula apportionment funds, tribes need to submit their reports to the NTD no later than June 30, 2016. For tribes who have not reported before, please contact the NTD Operations Center in advance to get a reporting account for the NTD on-line data collection system. The Operation Center can be reached Monday-Friday, 8:00 a.m.-7:00 p.m. (ET), by email NTDHelp@dot.gov or by phone 1-888-252-0936. Tribes must comply with all applicable Federal statutes, regulations, executive orders, FTA circulars, and other Federal requirements in carrying out the project supported by the FTA grant. To assist tribes with understanding these requirements, FTA has conducted approximately nine Tribal Transit Technical Assistance Workshops, and expects to offer several workshops in FY 2016. FTA has also expanded its technical assistance to tribes receiving funds under this program. In FY15, FTA implemented the Tribal Transit Technical Assistance Assessments initiative. Through these assessments, FTA collaborates with tribal transit leaders to review processes and identify areas in need of improvement and then assist with solutions to address these needs. FTA completed fifteen assessments in FY15, and expects to do a similar number in FY16. These assessments include discussions of compliance areas pursuant to the Master Agreement, a site visit, promising practices reviews, and technical assistance from FTA and its contractors. These workshops and assessments have received exemplary feedback From Tribal Transit Leaders, and have provided FTA with invaluable opportunities to learn more about Tribal transit leaders' perspectives, and honor the sovereignty of tribal nations. FTA will post information about upcoming workshops to its Web site and disseminate information about the reviews through its Regional offices. A list of Tribal Liaisons can be found on FTA's Web site at http://www.fta.dot.gov/13094_15845.html.

Funds allocated in this announcement must be obligated in a grant by September 30, 2018. Tribes selected for competitive discretionary funding should work with their FTA regional tribal liaison to finalize the grant application in FTA's TrAMs. FTA plans to publish a notice of funding availability NOFA soliciting proposals for FY 2016 discretionary funds in the coming months.

The NOFA will establish and outline specific eligibility for funding.

Therese W. McMillan,
Acting Administrator.

[FR Doc. 2016-03539 Filed 2-19-16; 8:45 am]

BILLING CODE P